GENERAL SERVICES ADMINISTRATION

[FMR Bulletin 2006-B1]

Federal Management Regulation; Designations and Redesignations of Federal Buildings

AGENCY: Public Buildings Service (P), GSA

ACTION: Notice of a bulletin.

SUMMARY: The attached bulletin announces the designations and redesignations of nine (9) Federal Buildings.

EXPIRATION DATE: This bulletin expires May 1, 2007. However, the building designations and redesignations announced by this bulletin will remain in effect until canceled or superseded.

FOR FURTHER INFORMATION CONTACT General Services Administration, Public Buildings Service (P), Attn: Anthony E. Costa, 1800 F Street, NW, Washington, DC 20405, e-mail at anthony.costa@gsa.gov. (202) 501-1100.

Dated: November 21, 2006.
Lurita Doan,
Administrator of General Services.

GENERAL SERVICES ADMINISTRATION

[FMR Bulletin 2006-B1]

Redesignations of Federal Buildings

TO: Heads of Federal Agencies

SUBJECT: Designations and Redesignations of Federal Buildings

1. What is the purpose of this bulletin? This bulletin announces the designations and redesignations of nine (9) Federal Buildings.

2. When does this bulletin expire? This bulletin expires May 1, 2007. However, the building designations and redesignations announced by this bulletin will remain in effect until canceled or superseded.

3. Designations. The names of the buildings and grounds being designated are as follows:

Carroll A. Campbell, Jr. United States Courthouse, to be constructed, building number SC0017ZZ, exact address TBD, Greenville, SC.

Justin W. Williams Attorney's Building, the Attorney's entrance of the Albert V. Bryan Sr. Courthouse, 2100 Jamieson Avenue, Alexandria, VA 22314.

Clyde S. Cahill Memorial Park, on the grounds of the Thomas F. Eagleton United States Courthouse, 111 South 10th Street, St. Louis, MO 63102.

4. Redesignations. The former and new names of the buildings being redesignated are as follows:

Former name | New name
Federal Building, 333 Mt. Elliott Street, Detroit, MI 48207. | Rosa Parks Federal Building, 333 Mt. Elliott Street, Detroit, MI 48207.
Courthouse Annex, 200 3rd Street, NW, Washington, DC 20001. | William B. Bryant Annex, 200 3rd Street, NW, Washington, DC 20001.
Federal Building and United States Courthouse, 211 West Ferguson Street, Tyler, TX 75702. | William M. Steger Federal Building and United States Courthouse, 211 West Ferguson Street, Tyler, TX 75702.
Federal Building and United States Courthouse, 2 South Main Street, Akron, OH 44308. | John F. Seiberling Federal Building and United States Courthouse, 2 South Main Street, Akron, OH 44308.
United States Courthouse, 300 North Hogan Street, Jacksonville, FL 32202. | John Milton Bryan Simpson United States Courthouse, 300 North Hogan Street, Jacksonville, FL 32202.
Federal Building, 320 North Main Street,McAllen, TX 78501. | Kika de la Garza Federal Building, 320 North Main Street, McAllen, TX 78501.

5. Who should we contact for further information regarding redesignation of these Federal Buildings? General Services Administration, Public Buildings Service (P), Attn: Anthony E, Costa, 1800 F Street, NW, Washington, DC 20405, telephone number: (202) 501-1100, e-mail at anthony.costa@gsa.gov.

[FR Doc. E6-20627 Filed 12-5-06; 8:45 am]

BILLING CODE 6820-23-S